ENVIRONMENTAL PROTECTION AGENCY

[FRL-6464.1-02-R10]

Proposed Modification of NPDES General Permit for Concentrated Animal Feeding Operations Located in Idaho (IDG010000)

AGENCY: Environmental Protection Agency (EPA).

ACTION: Notice of proposed modification of NPDES general permit and request for public comment.

SUMMARY: On July 18, 2023, the Environmental Protection Agency (EPA) Region 10 proposed to modify the NPDES General Permit for Concentrated Animal Feeding Operations (CAFOs) in Idaho excluding Tribal Lands (Permit). The proposed modification included new and revised conditions to address a Ninth Circuit Court of Appeal's Order and Opinion filed on December 16, 2021 (Food & Water Watch et al. v. U.S. Environmental Protection Agency (No. 20-71554)). Comments received during the 2023 public comment period are available online at the website under ADDRESSES in this document. With this notice, the EPA is initiating a second public comment period focused exclusively on additional modifications made to the Permit. After this comment period expires, and all comments from this comment period and the 2023 comment period have been considered, the EPA will make a final decision regarding the Permit modification.

DATES: Comments must be received by July 8, 2024.

ADDRESSES: Copies of the draft Permit modification and fact sheet addendum are available online: https://www.epa.gov/npdes-permits/npdes-general-permit-concentrated-animal-feeding-operations-cafos-idaho.

FOR FURTHER INFORMATION CONTACT: Requests may be made to Audrey Washington at (206) 553-0523 or to Nicholas Peak at (208) 378-5765. Requests may also be electronically mailed to: washington.audrey@epa.gov, or peak.nicholas@epa.gov.

SUPPLEMENTARY INFORMATION:

I. Background

This modification is a major modification pursuant to 40 CFR 122.62(a)(15). The EPA Region 10 reissued the Permit on May 13, 2020; the Permit became effective on June 15, 2020 (85 FR 28624). Subsequently, a Petition for Review was filed on September 22, 2020, in the Ninth Circuit Court of Appeals, challenging the Permit on the basis that it did not contain representative effluent monitoring to ensure compliance with all applicable effluent limitations in violation of the Clean Water Act and implementing regulations (Food & Water Watch et al. v. U.S. Environmental Protection Agency (No. 20-71554)). The Court granted the petition, in part, holding that the Permit failed to include monitoring to ensure compliance with the discharge prohibitions in the Permit. On July 18, 2023, the EPA Region 10 proposed to modify the Permit (88 FR 45900). The proposed modification included new and revised conditions to address the Ninth Circuit Court of Appeal's Order and Opinion filed on December 16, 2021 (Food & Water Watch et al. v. U.S. Environmental Protection Agency (No. 20-71554)). With this notice, the EPA is initiating a second public comment period focused exclusively on the following additional modifications made to the Permit:

1. Removal of section II.B.9.a in the draft permit modification, regarding land application on surface irrigated fields.

2. Modification of Section II.B.9.b (now section II.B.9.a of the draft permit modification), regarding required visual inspections of land application events and land application setbacks, buffers, or compliance alternatives.

3. Modification of various elements of the nutrient management plan (section III.A.2.a in the draft permit modification).

II. Other Legal Requirements

This action is not a significant regulatory action and was therefore not submitted to the Office of Management and Budget (OMB) for review. Compliance with Endangered Species Act, Essential Fish Habitat, Paperwork Reduction Act, and other requirements are discussed in the original 2019 Fact Sheet to the permit.

Caleb Shaffer,
Acting Director, Water Division, Region 10.

[FR Doc. 2024-12455 Filed 6-5-24; 8:45 am]

BILLING CODE 6560-50-P